DEPARTMENT OF HOUSING AND URBAN DEVELOPMENT

[Docket No. FR-4975-N-05]

Notice of Proposed Information Collection: Comment Request

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: May 23, 2005.

ADDRESSES: Interested persons are invited to submit comments regarding this proposal. Comments should refer to the proposal by name and/or OMB Control Number and should be sent to: Wayne Eddins, Reports Management Officer, Department of Housing and Urban Development,451 7th Street, SW., L'Enfant Plaza Building, Room 8001, Washington, DC 20410 or Wayne_Eddins@hud.gov.

FOR FURTHER INFORMATION CONTACT: Cheryl D. Gordon, Operating Accountant, Office of Financial Services, Department of Housing and Urban Development, 451 7th Street, SW., Washington, DC 20410, telephone (202) 401-2168, extension 4962 (this is not a toll free number( for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Multifamily Insurance Benefits Claims Package.

OMB Control Number, if applicable: 2502-415.

Description of the need for the information and proposed use: When a lender with an insured multifamily mortgage assigns a mortgage or conveys a property to HUD, the lender is required to submit all records and accounts relative to the mortgage to HUD. These provisions are spelled out in Statute 12 USC 1713(g); Title II, section 207(g) of the National Housing Act; and 24 CFR 207.258(b)(4). To receive insurance benefits, the mortgagee must prepare and submit to HUD the multifamily Insurance Benefits Claims Package.

Agency form numbers, if applicable: HUD-2742, HUD-2744-A, HUD-2744-B, HUD-2744-C, HUD-2744-D, HUD-2744E, and HUD-434

Estimation of the total numbers of hours needed to prepare the information collection including number of respondents, frequency of response, and hours of response: The estimated number of respondents is 118 (113 regular claims and 5 co-insured claims), the frequency of response is one per claim, the burden per response is estimated to be four hours for a regularly submitted claim or three hours for a co-insured claim, and the total estimated annual burden hours requested is 478.

Status of the proposed information collection: Revision of a currently approved collection to incorporate OMB information collections 2502-0418 and 2502-0555.

Authority: The Paperwork Reduction Act of 1995, 44 U.S.C., Chapter 35, as amended.

Dated: March 17, 2005.
Frank L. Davis,
General Deputy Assistant Secretary for Housing-Deputy Federal Housing Commissioner.

[FR Doc. 05-5826 Filed 3-23-05; 8:45 am]

BILLING CODE 4210-27-M